DEPARTMENT OF TRANSPORTATION

Federal Aviation Administration

14 CFR Part 39

[Docket No. FAA-2020-1029; Project Identifier MCAI-2020-01126-T; Amendment 39-21777; AD 2021-22-04]

RIN 2120-AA64

Airworthiness Directives; Airbus SAS Airplanes

AGENCY: Federal Aviation Administration (FAA), Department of Transportation (DOT).

ACTION: Final rule.

SUMMARY: The FAA is superseding Airworthiness Directive (AD) 2019-21-10, which applied to all Airbus SAS Model A321-111, -112, -131, -211, -212, -213, -231, and -232 airplanes. AD 2019-21-10 required a one-time eddy current conductivity measurement of certain structural parts of the outer flaps to determine if the incorrect alloy was used, and replacement if necessary. This AD continues to require a one-time eddy current conductivity measurement of certain structural parts of the outer flaps to determine if the incorrect alloy was used, and replacement if necessary; and also requires a new one-time eddy current conductivity measurement of certain other structural parts of the outer flaps to determine if the parts were properly heat treated, and replacement if necessary; and includes additional affected airplanes; as specified in a European Union Aviation Safety Agency (EASA) AD, which is incorporated by reference. This AD was prompted by a quality control review, which determined that the wrong aluminum alloy was used to manufacture several structural parts and by the issuance of an updated list of suspected parts, including those that may have been improperly heat treated. The FAA is issuing this AD to address the unsafe condition on these products.

DATES: This AD is effective December 27, 2021.

The Director of the Federal Register approved the incorporation by reference of a certain publication listed in this AD as of December 27, 2021.

ADDRESSES: For material incorporated by reference (IBR) in this AD, contact EASA, Konrad-Adenauer-Ufer 3, 50668 Cologne, Germany; phone: +49 221 8999 000; email: ADs@easa.europa.eu; internet: www.easa.europa.eu. You may find this IBR material on the EASA website at https://ad.easa.europa.eu. You may view this IBR material at the FAA, Airworthiness Products Section, Operational Safety Branch, 2200 South 216th St., Des Moines, WA. For information on the availability of this material at the FAA, call 206-231-3195. It is also available in the AD docket on the internet at https://www.regulations.gov by searching for and locating Docket No. FAA-2020-1029.

Examining the AD Docket

You may examine the AD docket on the internet at https://www.regulations.gov by searching for and locating Docket No. FAA-2020-1029; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Sanjay Ralhan, Aerospace Engineer, Large Aircraft Section, International Validation Branch, FAA, 2200 South 216th St., Des Moines, WA 98198; phone and fax: 206-231-3223; email: sanjay.ralhan@faa.gov.

SUPPLEMENTARY INFORMATION:

Background

EASA, which is the Technical Agent for the Member States of the European Union, has issued EASA AD 2020-0174, dated August 5, 2020 (EASA AD 2020-0174) (also referred to as the Mandatory Continuing Airworthiness Information, or the MCAI), to correct an unsafe condition for all Airbus SAS Model A318-111, -112, -121, and -122 airplanes; Model A319-111, -112, -113, -114, -115, -131, -132, and -133 airplanes; Model A320-211, -212, -214, -215, -216, -231, -232, and -233 airplanes; and Model A321-111, -112, -131, -211, -212, -213, -231, and -232 airplanes. Model A320-215 airplanes are not certificated by the FAA and are not included on the U.S. type certificate data sheet; this AD therefore does not include those airplanes in the applicability.

The FAA issued a notice of proposed rulemaking (NPRM) to amend 14 CFR part 39 to supersede AD 2019-21-10, Amendment 39-19776 (84 FR 63794, November 19, 2019) (AD 2019-21-10). AD 2019-21-10 applied to all Airbus SAS Model A321-111, -112, -131, -211, -212, -213, -231, and -232 airplanes. The NPRM published in the Federal Register on November 20, 2020 (85 FR 74299). The NPRM was prompted by a quality control review, which determined that the wrong aluminum alloy was used to manufacture several structural parts and by the issuance of an updated list of suspected parts, including those that may have been improperly heat treated. The NPRM proposed to continue to require a one-time eddy current conductivity measurement of certain structural parts of the outer flaps to determine if the incorrect alloy was used, and replacement if necessary, as specified in EASA AD 2019-0012, dated January 24, 2019 (which corresponds to FAA AD 2019-21-10). The NPRM also proposed to require a new one-time eddy current conductivity measurement of certain other structural parts of the outer flaps to determine if the parts were properly heat treated, and replacement if necessary, and to include additional affected airplanes, as specified in EASA AD 2020-0174.

The FAA is issuing this AD to address structural parts that may not meet the certified life limit, which could result in failure of the flap trailing edge and reduced controllability of the airplane. See the MCAI for additional background information.

Comments

The FAA gave the public the opportunity to participate in developing this final rule. The following presents the comments received on the NPRM and the FAA's response to each comment.

Request To Include All Required Airplanes in the SUMMARY of the NPRM

Bradley Schrock requested the FAA include the additional required Airbus Model airplanes in the SUMMARY section of the NPRM. The commenter pointed out that the additional models could easily be overlooked if the reader were to only read the SUMMARY of the NPRM.

The FAA does not agree to revise the SUMMARY of this final rule. Operators are required to follow the applicability of the AD, which is specified in paragraph (c) of this AD. While the SUMMARY of this final rule doesn't specify all airplanes affected by this AD, it does specify that the FAA is adding airplanes to the applicability. Additionally, in the Background section of this final rule, the FAA has included all airplane models that are affected by this AD. Further, the SUMMARY section is a preamble requirement for all documents published in the Federal Register and must follow drafting requirements prescribed by the Office of the Federal Register (OFR). The SUMMARY section briefly provides context for the document within the Federal Register/CFR publication system; it does not summarize the content of the document. Adding the requested airplane models does not follow the OFR's requirements for the SUMMARY section. The FAA has not changed this final rule in this regard.

Request To Revise Compliance Statement in Paragraph (f) of the Proposed AD for Model A321 Airplanes

Delta Air Lines (DAL) requested that the FAA revise the compliance statement in paragraph (f) of the proposed AD for Model A321 airplanes. DAL suggested that paragraph (f) of the NPRM be revised to read: “Comply with this AD within the compliance times specified, unless already done. For A321 operators, the earliest date that compliance may have occurred is 29MAY2020 (the issuance date of [EASA] PAD 19-100R1).” DAL pointed out that the suspected parts are line replaceable units (LRUs) with off-wing Instructions for Continued Airworthiness, and that these parts comprise a pool of rotable parts. DAL then specified that no revision of the service information referenced in EASA AD 2020-0174 has included the serial numbers of outer flap tabs. DAL stated that EASA AD 2020-0174 allows the use of any revision of the service information for the determination of these suspected parts. Further, DAL argued that, for Model A321 operators, the use of any service information revision for determination of suspected part applicability is inadequate for the identification of suspected outer flap tabs. DAL asserted that before May 29, 2020, comparison with the outer flap serial number lists within the service information referenced in EASA AD 2020-0174 could allow inadvertent exclusion of an outer flap tab that is included in the quality escape population.

The FAA does not agree to revise the compliance statement in paragraph (f) of this AD. As stated previously, EASA AD 2020-0174 takes precedence over the service information referenced therein and this AD requires using EASA AD 2020-0174 for determining suspected parts. EASA AD 2020-0174 specifies using the service information only for accomplishing the required inspections and not for identifying the suspected parts. The FAA has determined EASA AD 2020-0174 addresses the unsafe condition on the universe of suspected parts. Further, the FAA has determined that the information provided by EASA and the manufacturer is adequate information for accomplishing the required actions. The FAA has not changed this AD regarding this issue.

Request To Add Exception To Clarify the Definition of Suspected Improperly Heat Treated (IHT) Parts

DAL requested that the FAA revise the NPRM to include an exception to EASA AD 2020-0174 to clarify the definition of suspected IHT parts for Model A321 airplanes. DAL specified that, for Model A321 airplanes, the suspected IHT parts are constituent parts of the outer flap tabs, not the outer flaps as defined in EASA AD 2020-0174. DAL mentioned that if not clarified, the definition could introduce confusion for operators of Model A321 airplanes.

The FAA does not agree to include an exception to EASA AD 2020-0174. Appendix 2 of EASA AD 2020-0174 refers to the airplane manufacturer serial numbers, flap serial numbers, and the flap tab part numbers, based on the airplane configuration at the time of delivery to the first operator. Therefore, the FAA has determined that, even though the definition specified in EASA AD 2020-0174 does not explicitly state that, for Model A321 airplanes the suspected IHT parts are constituent to the outer flap tabs, the information necessary to make that determination is already included in Appendix 2 of EASA AD 2020-0174, which the definition references. The FAA has not changed this AD regarding this issue.

Request To Include Additional Service Information for Determining Affected Parts

DAL requested that the FAA revise the NPRM to include Airbus In-Service Information (ISI) Document 57.50.00022, which DAL stated includes outer flap and outer flap tab part number definitions for the serial numbers defined in Appendix 1 and Appendix 2 of EASA AD 2020-0174. DAL pointed out that Appendix 1 and Appendix 2 of EASA AD 2020-0174 do not contain any outer flap or outer flap tab (Model A321) part numbers, instead specifying the suspected part population by LRU serial number. DAL also mentioned that Airbus does not consider the Model A321 flap tab serial numbers to be Aircraft Inspection Report (AIR) recordable within each airplane's delivery records. DAL implied that most operators would have difficulty tracing outer flap tab serial numbers to specific airplane manufacturer serial numbers. DAL also stated that there has been enough operator demand for clarification from the manufacturer that Airbus released ISI 57.50.00022. DAL noted that ISI 57.50.00022 is not referenced in the service information specified by EASA AD 2020-0174.

The FAA disagrees with the request. This AD is based on EASA AD 2020-0174, which is based on the configuration of the airplane at the time of delivery (as indicated in Notes 2 and 3 of EASA AD 2020-0174). It is not possible for the FAA to know all of the operator-specific part numbers and serial numbers installed on all of the airplanes affected by this AD or EASA AD 2020-0174. Therefore, it is the operator's responsibility to track these parts, so that they can identify discrepant parts as defined in the EASA AD and apply appropriate corrective actions. If an operator's fleet configuration, including part tracking system, does not allow compliance with the requirements of this AD, then that operator must present a customized plan for AD compliance for the applicable airplane with a request for an alternative method of compliance (AMOC) under the provisions of paragraph (i)(1) of this AD. It is impractical for the FAA to customize an AD in a way that meets operator's specific requirements for compliance. The FAA has not changed this AD regarding this issue.

Request To Include an Exception to the Method of Compliance

DAL requested that the FAA add an exception to include a statement that, for demonstration of compliance with Paragraph (5) of EASA AD 2020-0174, the part serial number does not need to be positively identified, provided that it can be determined that the part is serviceable using the definition provided in EASA AD 2020-0174. DAL mentioned that the service information specified in EASA AD 2020-0174 does not contain part numbers for suspected parts, and instead the only part numbers within the service information appendices are the part numbers of potentially discrepant structural parts, which on Model A321 airplanes are not serialized. DAL pointed out that verbatim application of the service information might cause improper evaluation of parts for applicability of the suspected part definition. DAL continued to point out that the service information conflicts with EASA AD 2020-0174, and that EASA AD 2020-0174 bounds the suspected outer flap tab population by outer flap tab serial number in Appendix 2 of EASA AD 2020-0174. DAL then pointed out that verbatim application of the service information on Model A321 airplanes could introduce the possibility that the inspection of an outer flap tab with potentially discrepant internal structure is not completed.

The FAA does not agree to include the requested exception. This AD requires EASA AD 2020-0174, which is based on the configuration of an airplane at the time of delivery. As specified in EASA AD 2020-0174, if a serial number cannot be identified, then that part is defined as a suspected part. EASA AD 2020-0174 takes precedence over any instructions specified in the service information it references. Therefore, operators can comply with the requirements of this AD. However, once this AD is published, any person may present sufficient data and rationale and request approval of an AMOC under the provisions of paragraph (i)(1) of this AD. The FAA has not changed this AD regarding this issue.

Conclusion

The FAA reviewed the relevant data, considered the comments received, and determined that air safety and the public interest require adopting this final rule as proposed, except for minor editorial changes. The FAA has determined that these minor changes:

• Are consistent with the intent that was proposed in the NPRM for addressing the unsafe condition; and

• Do not add any additional burden upon the public than was already proposed in the NPRM.

Related Service Information Under 1 CFR Part 51

EASA AD 2020-0174 describes procedures for a one-time eddy current conductivity measurement of certain structural parts of the outer flaps to determine if the incorrect alloy was used, and replacement if necessary; and a one-time eddy current conductivity measurement of certain other structural parts of the outer flaps to determine if the parts were properly heat treated, and replacement if necessary. This material is reasonably available because the interested parties have access to it through their normal course of business or by the means identified in the ADDRESSES section.

Costs of Compliance

The FAA estimates that this AD affects 63 airplanes of U.S. registry. The FAA estimates the following costs to comply with this AD:

Estimated Costs for Required Actions *
Action | Labor cost | Parts cost | Cost per product | Cost on U.S. operators
Retained actions from AD 2019-21-10 | 6 work-hours × $85 per hour = $510 | $0 | $510 | $32,130
New actions | 5 work-hours × $85 per hour = $425 | 0 | 425 | 26,775
* Table does not include estimated costs for reporting.

The FAA estimates that it takes about 1 work-hour per product to comply with the reporting requirement in this AD. The average labor rate is $85 per hour. Based on these figures, the FAA estimates the cost of reporting the inspection results on U.S. operators to be $5,355, or $85 per product.

The FAA has received no definitive data on which to base the cost estimates for the on-condition replacement specified in this AD.

According to the manufacturer, some or all of the costs of this AD may be covered under warranty, thereby reducing the cost impact on affected operators. The FAA does not control warranty coverage for affected operators. As a result, the FAA has included all known costs in the cost estimate.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2019-21-10, Amendment 39-19776 (84 FR 63794, November 19, 2019); and

b. Adding the following new AD:

2021-22-04 Airbus SAS: Amendment 39-21777; Docket No. FAA-2020-1029; Project Identifier MCAI-2020-01126-T.

(a) Effective Date

This airworthiness directive (AD) is effective December 27, 2021.

(b) Affected ADs

This AD replaces AD 2019-21-10, Amendment 39-19776 (84 FR 63794, November 19, 2019) (AD 2019-21-10).

(c) Applicability

This AD applies to all Airbus SAS airplanes identified in paragraphs (c)(1) through (4) of this AD, certificated in any category.

(1) Model A318-111, -112, -121, and -122 airplanes.

(2) Model A319-111, -112, -113, -114, -115, -131, -132, and -133 airplanes.

(3) Model A320-211, -212, -214, -216, -231, -232, and -233 airplanes.

(4) Model A321-111, -112, -131, -211, -212, -213, -231, and -232 airplanes.

(d) Subject

Air Transport Association (ATA) of America Code 57, Wings.

(e) Reason

This AD was prompted by a quality control review, which determined that the wrong aluminum alloy was used to manufacture several structural parts and by the issuance of an updated list of suspected parts, including those that may have been improperly heat treated. The FAA is issuing this AD to address structural parts that may not meet the certified life limit, which could result in failure of the flap trailing edge and reduced controllability of the airplane.

(f) Compliance

Comply with this AD within the compliance times specified, unless already done.

(g) Requirements

Except as specified in paragraph (h) of this AD: Comply with all required actions and compliance times specified in, and in accordance with, European Union Aviation Safety Agency (EASA) AD 2020-0174, dated August 5, 2020 (EASA AD 2020-0174).

(h) Exceptions to EASA AD 2020-0174

(1) Where EASA AD 2020-0174 refers to its effective date, this AD requires using the effective date of this AD.

(2) The “Remarks” section of EASA AD 2020-0174 does not apply to this AD.

(3) Where paragraphs (7) and (8) of EASA AD 2020-0174 mandate a parts installation limitation, this AD requires the following parts installation limitation: From the effective date of this AD, only serviceable parts as defined in EASA AD 2020-0174 are allowed to be installed on any airplane.

(4) Where any service information referenced in EASA AD 2020-0174 specifies reporting, this AD requires reporting all inspection results at the applicable time specified in paragraph (h)(4)(i) or (ii) of this AD. If operators have reported findings as part of obtaining any corrective actions approved by Airbus SAS's EASA Design Organization Approval (DOA), operators are not required to report those findings as specified in this paragraph.

(i) If the inspection was done on or after the effective date of this AD: Submit the report within 30 days after the inspection.

(ii) If the inspection was done before the effective date of this AD: Submit the report within 90 days after the effective date of this AD.

(i) Other FAA AD Provisions

The following provisions also apply to this AD:

(1) Alternative Methods of Compliance (AMOCs): The Manager, Large Aircraft Section, International Validation Branch, FAA, has the authority to approve AMOCs for this AD, if requested using the procedures found in 14 CFR 39.19. In accordance with 14 CFR 39.19, send your request to your principal inspector or responsible Flight Standards Office, as appropriate. If sending information directly to the Large Aircraft Section, International Validation Branch, send it to the attention of the person identified in paragraph (j) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, Large Aircraft Section, International Validation Branch, FAA; or EASA; or Airbus SAS's EASA DOA. If approved by the DOA, the approval must include the DOA-authorized signature.

(3) Required for Compliance (RC): Except as required by paragraphs (h)(4) and (i)(2) of this AD, if any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(4) Paperwork Reduction Act Burden Statement: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 1 hour per response, including the time for reviewing instructions, searching existing data sources, gathering and maintaining the data needed, and completing and reviewing the collection of information. All responses to this collection of information are mandatory as required by this AD. Send comments regarding this burden estimate or any other aspect of this collection of information, including suggestions for reducing this burden to Information Collection Clearance Officer, Federal Aviation Administration, 10101 Hillwood Parkway, Fort Worth, TX 76177-1524.

(j) Related Information

For more information about this AD, contact Sanjay Ralhan, Aerospace Engineer, Large Aircraft Section, International Validation Branch, FAA, 2200 South 216th St., Des Moines, WA 98198; phone and fax: 206-231-3223; email: sanjay.ralhan@faa.gov.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2020-0174, dated August 5, 2020.

(ii) [Reserved]

(3) For EASA AD 2020-0174, contact EASA, Konrad-Adenauer-Ufer 3, 50668 Cologne, Germany; phone: +49 221 8999 000; email: ADs@easa.europa.eu; internet: www.easa.europa.eu. You may find this EASA AD on the EASA website at https://ad.easa.europa.eu.

(4) You may view this material at the FAA, Airworthiness Products Section, Operational Safety Branch, 2200 South 216th St., Des Moines, WA. For information on the availability of this material at the FAA, call 206-231-3195. This material may be found in the AD docket on the internet at https://www.regulations.gov by searching for and locating Docket No. FAA-2020-1029.

(5) You may view this material that is incorporated by reference at the National Archives and Records Administration (NARA). For information on the availability of this material at NARA, email fr.inspection@nara.gov, or go to: https://www.archives.gov/federal-register/cfr/ibr-locations.html.

Issued on October 13, 2021.
Gaetano A. Sciortino,
Deputy Director for Strategic Initiatives, Compliance & Airworthiness Division, Aircraft Certification Service.

[FR Doc. 2021-25201 Filed 11-18-21; 8:45 am]

BILLING CODE 4910-13-P